DEPARTMENT OF TRANSPORTATION

Surface Transportation Board

[Docket No. FD 30186]

Tongue River Railroad Company, Inc.—Rail Construction and Operation—in Custer, Powder River and Rosebud Counties, MT; Extension of Comment Period for the Draft Scope of Study

The Surface Transportation Board's Office of Environmental Analysis (OEA) issued a Notice of Intent (NOI) to prepare an Environmental Impact Statement (EIS), a Draft Scope of Study, and a notice of scoping meetings in the above-captioned proceeding on October 22, 2012 and published it in the Federal Register on the same day. In the NOI, OEA invited public comments on the Draft Scope of Study, potential alternative routes for the proposed rail line, and environmental issues and concerns by December 6, 2012. In response to a number of requests for an extension of the comment period, OEA is issuing this Notice to advise the public and all interested parties that the comment period will be extended until January 11, 2013.

OEA will issue a Final Scope of Study for the EIS after the close of the scoping comment period. Any comments previously submitted on the NOI and Draft Scope of Study need not be resubmitted.

Scoping comments submitted by mail should be addressed to: Ken Blodgett, Surface Transportation Board, 395 E Street SW., Washington, DC 20423-0001, Attention: Environmental filing, Docket No. FD 30186.

Scoping comments may also be filed electronically on the Board's Web site, http://www.stb.dot.gov, by clicking on the “E-FILING” link.

Please refer to Docket No. FD 30186 in all correspondence, including e-filings, addressed to the Board. Scoping comments are now due by January 11, 2013. For more information about the Board's environmental review process and this EIS, please call OEA's toll-free number for the project at 1-866-622-4355 or visit the Board-sponsored project Web site at www.tonguerivereis.com.

By the Board, Victoria Rutson, Director, Office of Environmental Analysis.
Jeffrey Herzig,
Clearance Clerk.

[FR Doc. 2012-29230 Filed 12-3-12; 8:45 am]

BILLING CODE 4915-01-P